DEPARTMENT OF ENERGY

Federal Energy Regulatory Commission

Combined Notice of Filings #1

Take notice that the Commission received the following Complaints and Compliance filings in EL Dockets:

Docket Numbers: EL19-58-014.

Applicants: PJM Interconnection, L.L.C.

Description: Compliance filing: Motion for Action on Reserve Compliance, Setting Effective Date, 5-Day Answer to be effective 10/1/2022.

Filed Date: 8/16/22.

Accession Number: 20220816-5022.

Comment Date: 5 p.m. ET 8/24/22.

Docket Numbers: EL19-58-015.

Applicants: PJM Interconnection, L.L.C.

Description: Compliance filing: Reinstating May 1, 2022 Effective Langauge in Reserve Compliance to be effective 5/1/2022.

Filed Date: 8/17/22.

Accession Number: 20220817-5276.

Comment Date: 5 p.m. ET 8/24/22.

Take notice that the Commission received the following electric rate filings: Docket Numbers: ER21-1046-002.

Applicants: Sugar Creek Wind One LLC.

Description: Midcontinent Independent System Operator, Inc. submits tariff filing per 35.19a(b): Refund Report_Sugar Creek Wind One LLC to be effective N/A.

Filed Date: 8/16/22.

Accession Number: 20220816-5184.

Comment Date: 5 p.m. ET 9/6/22.

Docket Numbers: ER21-2521-002.

Applicants: Broadlands Wind Farm LLC.

Description: Midcontinent Independent System Operator, Inc. submits tariff filing per 35.19a(b): Refund Report_Broadlands Wind Farm LLC to be effective N/A.

Filed Date: 8/16/22.

Accession Number: 20220816-5150.

Comment Date: 5 p.m. ET 9/6/22.

Docket Numbers: ER22-682-003.

Applicants: Duke Energy Progress, LLC.

Description: Compliance filing: Compliance Filing and Corrected Version of Rate Schedule No. 200 to be effective 3/1/2022.

Filed Date: 8/17/22.

Accession Number: 20220817-5217.

Comment Date: 5 p.m. ET 9/7/22.

Docket Numbers: ER22-2259-001.

Applicants: Nebraska Public Power District, Southwest Power Pool, Inc.

Description: Tariff Amendment: Nebraska Public Power District submits tariff filing per 35.17(b): Nebraska Public Power District Amended Formula Rate Filing to be effective 9/1/2022.

Filed Date: 8/17/22.

Accession Number: 20220817-5002.

Comment Date: 5 p.m. ET 8/30/22.

Docket Numbers: ER22-2673-000.

Applicants: PJM Interconnection, L.L.C.

Description: Tariff Amendment: Notice of Cancellation Re: SA No. 4264 (1st Rev) NITSA among PJM and AMP to be effective 8/16/2022.

Filed Date: 8/16/22.

Accession Number: 20220816-5143.

Comment Date: 5 p.m. ET 9/6/22.

Docket Numbers: ER22-2674-000.

Applicants: NorthWestern Corporation.

Description: Tariff Amendment: Notice of Cancellation: SA No.810 Powder River Energy Corp. to be effective 8/18/2022.

Filed Date: 8/17/22.

Accession Number: 20220817-5000.

Comment Date: 5 p.m. ET 9/7/22.

Docket Numbers: ER22-2675-000.

Applicants: Sonoran West Solar Holdings, LLC.

Description: § 205(d) Rate Filing: Shared Facilities Agreement to be effective 8/18/2022.

Filed Date: 8/17/22.

Accession Number: 20220817-5031.

Comment Date: 5 p.m. ET 9/7/22.

Docket Numbers: ER22-2676-000.

Applicants: Southern California Edison Company.

Description: Notice of Cancellation of Rate Schedule of Southern California Edison Company.

Filed Date: 8/12/22.

Accession Number: 20220812-5240.

Comment Date: 5 p.m. ET 9/2/22.

Docket Numbers: ER22-2677-000.

Applicants: PJM Interconnection, L.L.C.

Description: § 205(d) Rate Filing: Amendment to WMPA, SA No. 5591; Queue No. AE2-054 to be effective 1/22/2020.

Filed Date: 8/17/22.

Accession Number: 20220817-5036.

Comment Date: 5 p.m. ET 9/7/22.

Docket Numbers: ER22-2678-000.

Applicants: Liberty Utilities (Granite State Electric) Corp.

Description: § 205(d) Rate Filing: Borderline Sales Annual Rate Sheet Update Revised per PUC Order August 2022 to be effective 8/1/2022.

Filed Date: 8/17/22.

Accession Number: 20220817-5055.

Comment Date: 5 p.m. ET 9/7/22.

Docket Numbers: ER22-2679-000.

Applicants: Calhoun Solar Energy LLC.

Description: § 205(d) Rate Filing: Revised Market-Based Rate Tariff Filing to be effective 10/17/2022.

Filed Date: 8/17/22.

Accession Number: 20220817-5065.

Comment Date: 5 p.m. ET 9/7/22.

Docket Numbers: ER22-2680-000.

Applicants: Tucson Electric Power Company.

Description: § 205(d) Rate Filing: Greenlee Substation Interconnection Agreement to be effective 10/17/2022.

Filed Date: 8/17/22.

Accession Number: 20220817-5117.

Comment Date: 5 p.m. ET 9/7/22.

Docket Numbers: ER22-2681-000.

Applicants: Alabama Power Company, Georgia Power Company, Mississippi Power Company.

Description: § 205(d) Rate Filing: Alabama Power Company submits tariff filing per 35.13(a)(2)(iii: Double Run Solar Amended and Restated LGIA Filing to be effective 8/1/2022.

Filed Date: 8/17/22.

Accession Number: 20220817-5134.

Comment Date: 5 p.m. ET 9/7/22.

Docket Numbers: ER22-2682-000.

Applicants: PacifiCorp.

Description: § 205(d) Rate Filing: DG&T Amended Agmt Re SS of Ancillary Serv Sched 5 and/or 6 to be effective 8/1/2022.

Filed Date: 8/17/22.

Accession Number: 20220817-5188.

Comment Date: 5 p.m. ET 9/7/22.

Docket Numbers: ER22-2683-000.

Applicants: California Independent System Operator Corporation.

Description: § 205(d) Rate Filing: 2022-08-17 Transferred Frequency Response—City of Seattle to be effective 12/1/2022.

Filed Date: 8/17/22.

Accession Number: 20220817-5202.

Comment Date: 5 p.m. ET 9/7/22.

Docket Numbers: ER22-2684-000.

Applicants: California Independent System Operator Corporation.

Description: § 205(d) Rate Filing: 2022-08-17 Transferred Frequency Response—Tucson to be effective 12/1/2022.

Filed Date: 8/17/22.

Accession Number: 20220817-5230.

Comment Date: 5 p.m. ET 9/7/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 17, 2022.
Debbie-Anne A. Reese,
Deputy Secretary.

[FR Doc. 2022-18147 Filed 8-22-22; 8:45 am]

BILLING CODE 6717-01-P